DEPARTMENT OF TRANSPORTATION

Federal Aviation Administration

14 CFR Part 71

[Docket No. FAA-2014-0368; Airspace Docket No. 13-AGL-26]

RIN 2120-AA66

Amendment of Air Traffic Service (ATS) Routes in the Vicinity of Nabb, IN

AGENCY: Federal Aviation Administration (FAA), DOT.

ACTION: Final rule.

SUMMARY: This action modifies four VOR Federal airways (V-44, V-47,V-49, and V-51) in the vicinity of Nabb, IN. The Nabb, IN (ABB), VHF Omnidirectional Range (VOR)/Tactical Air Navigation (VORTAC) facility that provides navigation guidance for a portion of the airways listed was damaged beyond repair by a tornado in 2012.

DATES: Effective date 0901 UTC, November 13, 2014. The Director of the Federal Register approves this incorporation by reference action under 1 CFR part 51, subject to the annual revision of FAA Order 7400.9 and publication of conforming amendments.

ADDRESSES: FAA Order 7400.9X, Airspace Designations and Reporting Points, and subsequent amendments can be viewed online at http://www.faa.gov/air_traffic/publications/. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15. For further information, you can contact the Airspace Policy and Regulations Group, Federal Aviation Administration, 800 Independence Avenue SW., Washington, DC 20591; telephone: 202-267-8783.

FOR FURTHER INFORMATION CONTACT: Colby Abbott, Airspace Policy and Regulations Group, Office of Airspace Services, Federal Aviation Administration, 800 Independence Avenue SW., Washington, DC 20591; telephone: (202) 267-8783.

SUPPLEMENTARY INFORMATION:

History

On March 2, 2012, the Nabb, IN (ABB), VHF Omni-directional Range (VOR)/Tactical Air Navigation (VORTAC) navigation aid (NAVAID) was damaged by a tornado. A Notice to Airmen (NOTAM) was published the following day documenting the ABB VORTAC being out of service and has remained published to present. The Louisville B Service Support Center, Eastern Service Area Technical Operations, evaluated the ABB VORTAC and determined that it was damaged beyond repair and the cost to replace it would be prohibitive. Based on the cost analysis to repair or replace the ABB VORTAC, and the availability of existing adjacent area navigation routes and VOR Federal airways in the area supported by the ABB VORTAC, the FAA made a determination to decommission the ABB VORTAC.

As a result of the ABB VORTAC being decommissioned, the four VOR Federal airways V-44, V-47, V-49, and V-51 require amendment actions. The FAA is modifying these airways by removing the route segments previously supported by the ABB VORTAC due to insufficient ground-based navigation aid coverage. The modifications will result in non-continuous route structures for these airways; however, there are other existing adjacent routes and airways available for aircraft flying in the area of the route segments being removed. Since this action merely involves editorial changes by removing reference to the NAVAID in the legal descriptions of the above VOR Federal Airways, and does not involve a change in the dimensions or operating requirements of that airspace, notice and public procedure under 5 U.S.C. 553(b) are unnecessary.

The Rule

The FAA is amending Title 14, Code of Federal Regulations (14 CFR) part 71 to modify VOR Federal airways V-44, V-47, V-49, and V-51. The ABB VORTAC being damaged beyond repair in March 2012, NOTAMed out of service since then, and scheduled to be decommissioned has made this action necessary. The route modifications are outlined below.

V-44: V-44 extends between the Columbia, MO, VOR and Albany, NY, VORTAC. This action removes the route segment between the Samsville, IL, VOR and the Falmouth, KY, VOR.

V-47: V-47 extends between the Pine Bluff, AR, VOR and Waterville, OH, VOR. This action removes the route segment between the Pocket City, IN, VORTAC and the Cincinnati, OH, VORTAC.

V-49: V-49 extends between the Vulcan, AL, VORTAC and Mystic, KY (MYS), VOR. This action terminates the airway at the Mystic, KY, VOR by removing the route segment between the MYS VOR and the ABB VORTAC.

V-51: V-51 extends between Pahokee, FL, VORTAC and Chicago Heights, IL, VORTAC. This action removes the route segment between the Louisville, KY, VORTAC and the Shelbyville, IN, VORTAC.

The navigation aid radials cited in the VOR Federal airway descriptions are stated relative to True north.

Domestic VOR Federal airways are published in paragraph 6010(a) of FAA Order 7400.9X dated August 7, 2013, and effective September 15, 2013, which is incorporated by reference in 14 CFR 71.1. The VOR Federal airways listed in this document would be subsequently published in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the NAS.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9X, Airspace Designations and Reporting Points, dated August 7, 2013 and effective September 15, 2013, is amended as follows:

Paragraph 6010(a) Domestic VOR Federal Airways

* * * * *

V-44 [Amended]

From Columbia, MO; INT Columbia 131° and Foristell, MO, 262° radials; Foristell; Centralia, IL; to Samsville, IL. From Falmouth, KY; York, KY; Parkersburg, WV; Morgantown, WV; Martinsburg, WV; INT Martinsburg 094° and Baltimore, MD, 300° radials; Baltimore; INT Baltimore 122° and Sea Isle, NJ, 267° radials; Sea Isle; INT Sea Isle 040° and Deer Park, NY, 209° radials; Deer Park; INT Deer Park 041° and Bridgeport, CT, 133° radials; Bridgeport; INT Bridgeport 324° and Pawling, NY, 160° radials; Pawling; INT Pawling 342° and Albany, NY, 181° radials; to Albany. The airspace within R-4001B, R-5002A, R-5002B, and R-5002E is excluded when active. The airspace within V-139 and V-308 airways is excluded. The airspace below 2,000 feet MSL outside the United States is excluded.

* * * * *

V-47 [Amended]

From Pine Bluff, AR; Gilmore, AR; Dyersburg, TN; Cunningham, KY; to Pocket City, IN. From Cincinnati, OH; Rosewood, OH; Flag City, OH; to Waterville, OH.

* * * * *

V-49 [Amended]

From Vulcan, AL; Decatur, AL; Nashville, TN; Bowling Green, KY; to Mystic, KY.

* * * * *

V-51 [Amended]

From Pahokee, FL; INT Pahokee 010°and Treasure, FL, 193° radials; Treasure; INT Treasure 330°and Ormond Beach, FL, 183° radials; Ormond Beach; Craig, FL; Alma, GA; Dublin, GA; Athens, GA; INT Athens 340°and Harris, GA, 148° radials; Harris; Hinch Mountain, TN; Livingston, TN; to Louisville, KY. From Shelbyville, IN; INT Shelbyville 313° and Boiler, IN, 136° radials; Boiler; to Chicago Heights, IL.

* * * * *

Issued in Washington, DC, on August 7, 2014.
Gary A. Norek,
Manager, Airspace Policy and Regulations Group.

[FR Doc. 2014-19210 Filed 8-14-14; 8:45 am]

BILLING CODE 4910-13-P